ENVIRONMENTAL PROTECTION AGENCY

40 CFR Part 300

[EPA-HQ-SFUND-1989-0007, EPA-HQ- OLEM-2018-0253, 0580, 0581, 0582, 0583, 0585, and 0586; FRL-9994-86-OLEM]

National Priorities List; Correction

AGENCY: Environmental Protection Agency (EPA).

ACTION: Final rule, correction.

SUMMARY: On May 15, 2019, the Environmental Protection Agency published a final rule which added seven new sites to the National Priorities List (NPL) and changed the name of an NPL site. That document inadvertently contained a typographical error, citing Table 1 (General Superfund Section) in the instructions to make the site name change rather than Table 2 (Federal Facilities Section). This document corrects the final rule.

DATES: Effective June 14, 2019.

FOR FURTHER INFORMATION CONTACT: Terry Jeng, phone: (703) 603-8852, email: jeng.terry@epa.gov, Site Assessment and Remedy Decisions Branch, Assessment and Remediation Division, Office of Superfund Remediation and Technology Innovation (Mailcode 5204P), U.S. Environmental Protection Agency, 1200 Pennsylvania Avenue NW, Washington, DC 20460.

SUPPLEMENTARY INFORMATION: In FR Doc. 2019-09924 (84 FR 21708), appearing on page 21708 of the Federal Register of Wednesday, May 15, 2019, the following correction is made:

PART 300—NATIONAL OIL AND HAZARDOUS SUBSTANCES POLLUTION CONTINGENCY PLAN [CORRECTED]

1. On page 21713, in the third column, amendatory instruction 2 and its corresponding regulatory text are corrected to read as follows:

2. Appendix B to part 300 is amended as follows:

a. In Table 1, adding entries for “Copper Bluff Mine”, “Cliff Drive Groundwater Contamination”, “McLouth Steel Corp”, “Sporlan Valve Plant #1”, “Magna Metals”, “PROTECO”, and “Shaffer Equipment/Arbuckle Creek Area” in alphabetical order by state.

b. In Table 2, adding an entry for “Hunters Point Naval Shipyard” in alphabetical order by state and removing the entry for “Treasure Island Naval Station-Hun Pt An”.

The additions read as follows:

Appendix B to Part 300—National Priorities List

Table 1—General Superfund Section
State | Site name | City/county | Notes (a)
* * * * * * *
CA | Cooper Bluff Mine | Hoopa |
* * * * * * *
IN | Cliff Drive Groundwater Contamination | Logansport |
* * * * * * *
MI | McLouth Steel Corp | Trenton |
* * * * * * *
MO | Sporlan Valve Plant #1 | Washington |
* * * * * * *
NY | Magna Metals | Cortlandt Manor |
* * * * * * *
PR | PROTECO | Peñuelas |
* * * * * * *
WV | Shaffer Equipment/Arbuckle Creek Area | Minden |
* * * * * * *
(a) A = Based on issuance of health advisory by Agency for Toxic Substances and Disease Registry (if scored, HRS score need not be greater than or equal to 28.50).
* * * * * * *
P = Sites with partial deletion(s).

Table 2—Federal Facilities Section
State | Site name | City/county | Notes (a)
* * * * * * *
CA | Hunters Point Naval Shipyard | San Francisco | P.
* * * * * * *
* * * * * * *
(a) A = Based on issuance of health advisory by Agency for Toxic Substances and Disease Registry (if scored, HRS score need not be greater than or equal to 28.50).
* * * * * * *
P = Sites with partial deletion(s).

Dated: May 29, 2019.
Barry N. Breen,
Acting Assistant Administrator, Office of Land and Emergency Management.

[FR Doc. 2019-11759 Filed 6-6-19; 8:45 am]

BILLING CODE 6560-50-P